DEPARTMENT OF LABOR

Employment and Training Administration

[TA-W-63,903]

Gramercy Jewelry Manufacturing Corp., New York, NY; Notice of Termination of Investigation

Pursuant to Section 221 of the Trade Act of 1974, as amended, an investigation was initiated on August 19, 2008 in response to a petition filed by a company official on behalf of workers of Gramercy Jewelry Manufacturing Corp., New York, New York.

The petitioner has requested that the petition be withdrawn. Consequently, the investigation has been terminated.

Signed at Washington, DC, this 29th day of August 2008.
Richard Church,
Certifying Officer, Division of Trade Adjustment Assistance.

[FR Doc. E8-20687 Filed 9-5-08; 8:45 am]

BILLING CODE 4510-FN-P